NUCLEAR REGULATORY COMMISSION

[NRC-2010-0013]

Withdrawal of Regulatory Guide 1.148

AGENCY: Nuclear Regulatory Commission.

ACTION: Withdrawal of Regulatory Guide 1.148, “Functional Specification for Active Valve Assemblies in Systems Important to Safety in Nuclear Power Plants.”

FOR FURTHER INFORMATION CONTACT: Thomas J. Herrity, U.S. Nuclear Regulatory Commission, Washington, DC 20555-0001, telephone: 301-251-7447 or e-mail Thomas.Herrity@nrc.gov.

SUPPLEMENTARY INFORMATION:

I. Introduction

The U.S. Nuclear Regulatory Commission (NRC) is withdrawing Regulatory Guide (RG) 1.148, “Functional Specification for Active Valve Assemblies in Systems Important to Safety in Nuclear Power Plants.” RG 1.148 was published in March 1981. It endorsed the guidance provided by the American Society of Mechanical Engineers/American National Standards Institute (ASME/ANSI) standard N278.1-1975 and addressed the functional specification for active valve assemblies (e.g., Motor Operated Valve (MOV) actuators). ASME/ANSI Standard N278.1-1975 has been superseded by ASME QME-1, which defines requirements and provides guidelines for qualifying active mechanical equipment used in nuclear power plants.

The NRC is withdrawing RG 1.148 because the guidance it provides is outdated, and is essentially replaced by the recently issued Revision 3 of RG 1.100, “Seismic Qualification of Electric and Mechanical Equipment for Nuclear Power Plants,” which endorses ASME QME-1.

II. Further Information

The withdrawal of RG 1.148 does not alter any prior or existing licensing commitments based on its use. The guidance provided in this regulatory guide is neither necessary nor current. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, Maryland 20852-2738. The PDR's mailing address is US NRC PDR, Washington, DC 20555-0001. You can reach the PDR staff by telephone at 301-415-4737 or 800-397-4209, by fax at 301-415-3548, and by e-mail to pdr.resource@nrc.gov.

Regulatory guides are not copyrighted, and Commission approval is not required to reproduce them.

Dated at Rockville, Maryland, this 11th day of January, 2010.
For the Nuclear Regulatory Commission.
Andrea D. Valentin,
Chief, Regulatory Guide Development Branch, Division of Engineering, Office of Nuclear Regulatory Research.

[FR Doc. 2010-816 Filed 1-15-10; 8:45 am]

BILLING CODE 7590-01-P